DEPARTMENT OF TRANSPORTATION

Coast Guard

33 CFR Part 165

[CGD05-01-046]

RIN 2115-AE84

Regulated Navigation Area; Chesapeake Bay Entrance and Hampton Roads, VA and Adjacent Waters

AGENCY: Coast Guard, DOT.

ACTION: Direct final rule; confirmation of effective date.

SUMMARY: On January 28, 2002, we published a direct final rule. The rule notified the public of our excluding warships or other vessels owned, leased, or operated by the U.S. Government from certain carriage requirements for navigational charts and publications by allowing the use of approved electronic systems for charting and navigation while operating in the Chesapeake Bay Regulated Navigation Area. We received no comments on the rule; therefore, this rule will go into effect as scheduled.

DATES: The effective date of this direct final rule was April 29, 2002.

FOR FURTHER INFORMATION CONTACT: LTjg Anne Grabins, Fifth Coast Guard District Aids to Navigation and Waterways Management Branch, at (757) 398-6559.

SUPPLEMENTARY INFORMATION: On May 2, 2001, the Coast Guard published in the Federal Register a direct final rule that amended 33 CFR part 164, specifically § 164.01 paragraphs (a) and (c) (66 FR 21864). The amendment exempts public vessels equipped with electronic charting and navigation systems from paper chart carriage requirements. This geographically broad rule, which became effective July 31, 2001 (66 FR 42753, August 15, 2001), applies to public vessels operating in the navigable waters of the United States. A separate section of the CFR, however, still requires public vessels operating in the Chesapeake Bay Regulated Navigation Area (RNA) to carry paper charts (33 CFR 165.501(d)(7)). We amended the Chesapeake Bay RNA regulation to bring its navigation requirements for public vessels operating in this area in alignment with the requirements for all other U.S. waters.

The direct final rule (67 FR 3812, January 28, 2002) excludes public vessels from the corrected paper chart requirements contained in 33 CFR 165.501(d)(7), when operating in the Chesapeake Bay RNA. This exclusion only applies to public vessels equipped with an electronic charting and navigation systems that meet the standards approved by the Federal agency exercising operational control of the vessel.

Dated: July 19, 2002.
Arthur E. Brooks,
Captain, U.S. Coast Guard, Acting Commander, Fifth Coast Guard District.

[FR Doc. 02-19549 Filed 8-1-02; 8:45 am]

BILLING CODE 4910-15-P